DEPARTMENT OF TRANSPORTATION

Federal Railroad Administration

[Docket Number FRA-2012-0075]

Notification of Petition for Approval; Port Authority Trans-Hudson Product Safety Plan

In accordance with Part 236 of Title 49 Code of Federal Regulations (CFR) and 49 U.S.C. 20502(a), this document provides the public notice that by a document dated September 5, 2012, Port Authority Trans-Hudson (PATH) has petitioned the Federal Railroad Administration (FRA) seeking approval for a Product Safety Plan (PSP). FRA assigned the petition Docket Number FRA-2012-0075.

PATH is upgrading some of its track circuits with Digicode microprocessor-based track circuits. The Digicode track circuit is part of Alstom's Smartway Digital Track Circuit product line and will be used by PATH for train detection and broken rail detection. While this product has been successfully implemented elsewhere in the world, it has only been used on transit systems in the United States, and never on a U.S. general system railroad. The Digicode track circuits are functional replacements for the existing track circuits and the product has been chosen by PATH to replace existing, older technology track circuits. The existing product is experiencing end-of-life obsolescence issues and parts are becoming difficult to procure. The implementation of the Digicode track circuits will provide for higher reliability and lower overall operating and maintenance costs. PATH asserts that the PSP demonstrates that Digicode has been designed in a highly safe manner and meets the requirements of 49 CFR part 236, subpart H-Standards for Processor-Based Signal and Train Control Systems. The PSP itself provides the detailed description of the Digicode track circuit product design.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 3, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on October 15, 2012.
Robert C. Lauby,
Deputy Associate Administrator for Regulatory and Legislative Operations.

[FR Doc. 2012-25785 Filed 10-18-12; 8:45 am]

BILLING CODE 4910-06-P